DEPARTMENT OF THE TREASURY

Office of Foreign Assets Control

Actions Taken Pursuant to Executive Order 13382

AGENCY: Office of Foreign Assets Control, Treasury Department

ACTION: Notice

SUMMARY: The Treasury Department's Office of Foreign Assets Control (OFAC), is publishing on OFAC's list of Specially Designated Nationals and Blocked Persons (“SDN List”) the names of seventy (70) aircraft which Iran Air has an interest, an entity blocked pursuant to Executive Order 13382 of June 28, 2005, “Blocking Property of Weapons of Mass Destruction Proliferators and Their Supporters,” has an interest. The designations by the Director of OFAC, pursuant to Executive Order 13382, were effective on September 19, 2012.

DATES: The designations by the Director of OFAC, pursuant to Executive Order 13382, were effective on September 19, 2012.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On September 19, 2012, the Director of OFAC, in consultation with the Departments of State, Justice, and other relevant agencies, designated 70 entities in which Iran Air whose property and interests in property are blocked pursuant to Executive Order 13382.

The list of designees is below:

Aircraft:

1. EP-CFD; Aircraft Manufacture Date 19 Feb 1993; Aircraft Model F.28-0100; Aircraft Operator IRAN AIR; Aircraft Manufacturer's Serial Number (MSN) 11442 (aircraft) [NPWMD] Linked To: IRAN AIR.

2. EP-CFE; Aircraft Manufacture Date 6 Oct 1992; Aircraft Model F.28-0100; Aircraft Operator IRAN AIR; Aircraft Manufacturer's Serial Number (MSN) 11422 (aircraft) [NPWMD] Linked To: IRAN AIR.

3. EP-CFH; Aircraft Manufacture Date 24 Feb 1993; Aircraft Model F.28-0100; Aircraft Operator IRAN AIR; Aircraft Manufacturer's Serial Number (MSN) 11443 (aircraft) [NPWMD] Linked To: IRAN AIR.

4. EP-CFI; Aircraft Manufacture Date 22 Jan 1996; Aircraft Model F.28-0100; Aircraft Operator IRAN AIR; Aircraft Manufacturer's Serial Number (MSN) 11511 (aircraft) [NPWMD] Linked To: IRAN AIR.

5. EP-CFJ; Aircraft Manufacture Date 09 Jan 1996; Aircraft Model F.28-0100; Aircraft Operator IRAN AIR; Aircraft Manufacturer's Serial Number (MSN) 11516 (aircraft) [NPWMD] Linked To: IRAN AIR.

6. EP-CFK; Aircraft Manufacture Date 18 Feb 1986; Aircraft Model F.28-0100; Aircraft Operator IRAN AIR; Aircraft Manufacturer's Serial Number (MSN) 11518 (aircraft) [NPWMD] Linked To: IRAN AIR.

7. EP-CFL; Aircraft Manufacture Date 28 Jun 1991; Aircraft Model F.28-0100; Aircraft Operator IRAN AIR; Aircraft Manufacturer's Serial Number (MSN) 11343 (aircraft) [NPWMD] Linked To: IRAN AIR.

8. EP-CFM; Aircraft Manufacture Date 27 Apr 1992; Aircraft Model F.28-0100; Aircraft Operator IRAN AIR; Aircraft Manufacturer's Serial Number (MSN) 11394 (aircraft) [NPWMD] Linked To: IRAN AIR.

9. EP-CFO; Aircraft Manufacture Date 03 Apr 1992; Aircraft Model F.28-0100; Aircraft Operator IRAN AIR; Aircraft Manufacturer's Serial Number (MSN) 11389 (aircraft) [NPWMD] Linked To: IRAN AIR.

10. EP-CFP; Aircraft Manufacture Date 24 Jul 1992; Aircraft Model F.28-0100; Aircraft Operator IRAN AIR; Aircraft Manufacturer's Serial Number (MSN) 11409 (aircraft) [NPWMD] Linked To: IRAN AIR.

11. EP-CFQ; Aircraft Manufacture Date 02 Dec 1992; Aircraft Model F.28-0100; Aircraft Operator IRAN AIR; Aircraft Manufacturer's Serial Number (MSN) 11429 (aircraft) [NPWMD] Linked To: IRAN AIR.

12. EP-CFR; Aircraft Manufacture Date 31 Mar 1992; Aircraft Model F.28-0100; Aircraft Operator IRAN AIR; Aircraft Manufacturer's Serial Number (MSN) 11383 (aircraft) [NPWMD] Linked To: IRAN AIR.

13. EP-IAA; Aircraft Construction Number (also called L/N or S/N or F/N) 275; Aircraft Manufacture Date 20 Feb 1976; Aircraft Model B.747SP-86; Aircraft Operator IRAN AIR; Aircraft Manufacturer's Serial Number (MSN) 20998 (aircraft) [NPWMD] Linked To: IRAN AIR.

14. EP-IAB; Aircraft Construction Number (also called L/N or S/N or F/N) 278; Aircraft Manufacture Date 22 Apr 1976; Aircraft Model B747SP-86; Aircraft Operator IRAN AIR; Aircraft Manufacturer's Serial Number (MSN) 20999 (aircraft) [NPWMD] Linked To: IRAN AIR.

15. EP-IAC; Aircraft Construction Number (also called L/N or S/N or F/N) 307; Aircraft Manufacture Date 16 May 1977; Aircraft Model B.747SP-86; Aircraft Operator IRAN AIR; Aircraft Manufacturer's Serial Number (MSN) 21093 (aircraft) [NPWMD] Linked To: IRAN AIR.

16. EP-IAD; Aircraft Construction Number (also called L/N or S/N or F/N) 371; Aircraft Manufacture Date 26 Apr 1979; Aircraft Model B.747SP-86; Aircraft Operator IRAN AIR; Aircraft Manufacturer's Serial Number (MSN) 21758 (aircraft) [NPWMD] Linked To: IRAN AIR.

17. EP-IAG; Aircraft Construction Number (also called L/N or S/N or F/N) 291; Aircraft Manufacture Date 21 Jul 1976; Aircraft Model B.747-286B(SCD); Aircraft Operator IRAN AIR; Aircraft Manufacturer's Serial Number (MSN) 21217 (aircraft) [NPWMD] Linked To: IRAN AIR.

18. EP-IAH; Aircraft Construction Number (also called L/N or S/N or F/N) 300; Aircraft Manufacture Date 22 Dec 1976; Aircraft Model B.747-286B(SCD); Aircraft Operator IRAN AIR; Aircraft Manufacturer's Serial Number (MSN) 21218 (aircraft) [NPWMD] Linked To: IRAN AIR.

19. EP-IAI; Aircraft Construction Number (also called L/N or S/N or F/N) 550; Aircraft Manufacture Date 01 Dec 1981; Aircraft Model B.747-286B(SCD); Aircraft Operator IRAN AIR; Aircraft Manufacturer's Serial Number (MSN) 22670 (aircraft) [NPWMD] Linked To: IRAN AIR.

20. EP-IAM; Aircraft Construction Number (also called L/N or S/N or F/N) 381; Aircraft Manufacture Date 20 Jun 1979; Aircraft Model B.747-186B; Aircraft Operator IRAN AIR; Aircraft Manufacturer's Serial Number (MSN) 21759 (aircraft) [NPWMD] Linked To: IRAN AIR.

21. EP-IBA; Aircraft Construction Number (also called L/N or S/N or F/N) 723; Aircraft Manufacture Date 21 Dec 1993; Aircraft Model A300B4-605R; Aircraft Operator IRAN AIR (aircraft) [NPWMD] Linked To: IRAN AIR.

22. EP-IBB; Aircraft Construction Number (also called L/N or S/N or F/N) 727; Aircraft Manufacture Date 27 Dec 1994; Aircraft Model A300B4-605R; Aircraft Operator IRAN AIR (aircraft) [NPWMD] Linked To: IRAN AIR.

23. EP-IBC; Aircraft Construction Number (also called L/N or S/N or F/N) 632; Aircraft Manufacture Date 11 Mar 1992; Aircraft Model A300B4-605R; Aircraft Operator IRAN AIR (aircraft) [NPWMD] Linked To: IRAN AIR.

24. EP-IBD; Aircraft Construction Number (also called L/N or S/N or F/N) 696; Aircraft Manufacture Date Apr 1993; Aircraft Model A300B4-605R; Aircraft Operator IRAN AIR (aircraft) [NPWMD] Linked To: IRAN AIR.

25. EP-IBG; Aircraft Construction Number (also called L/N or S/N or F/N) 299; Aircraft Manufacture Date 09 Aug 1984; Aircraft Model A300B4-203; Aircraft Operator Iran Air (aircraft) [NPWMD] Linked To: IRAN AIR.

26. EP-IBH; Aircraft Construction Number (also called L/N or S/N or F/N) 302; Aircraft Manufacture Date 14 Nov 1984; Aircraft Model A300B4-203; Aircraft Operator IRAN AIR (aircraft) [NPWMD] Linked To: IRAN AIR.

27. EP-IBI; Aircraft Construction Number (also called L/N or S/N or F/N) 151; Aircraft Manufacture Date 09 Jun 1981; Aircraft Model A300B4-2C; Aircraft Operator IRAN AIR (aircraft) [NPWMD] Linked To: IRAN AIR.

28. EP-IBJ; Aircraft Construction Number (also called L/N or S/N or F/N) 256; Aircraft Manufacture Date 18 May 1983; Aircraft Model A300B4-203; Aircraft Operator IRAN AIR (aircraft) [NPWMD] Linked To: IRAN AIR.

29. EP-IBK; Aircraft Construction Number (also called L/N or S/N or F/N) 671; Aircraft Manufacture Date 19 Feb 1993; Aircraft Model A310-304; Aircraft Operator IRAN AIR (aircraft) [NPWMD] Linked To: IRAN AIR.

30. EP-IBL; Aircraft Construction Number (also called L/N or S/N or F/N) 436; Aircraft Manufacture Date 02 May 1987; Aircraft Model A310-304; Aircraft Operator IRAN AIR (aircraft) [NPWMD] Linked To: IRAN AIR.

31. EP-IBM; Aircraft Construction Number (also called L/N or S/N or F/N) 338; Aircraft Manufacture Date 05 Apr 1985; Aircraft Model A310-203; Aircraft Operator IRAN AIR (aircraft) [NPWMD] Linked To: IRAN AIR.

32. EP-IBN; Aircraft Construction Number (also called L/N or S/N or F/N) 375; Aircraft Manufacture Date 16 Apr 1985; Aircraft Model A310-203; Aircraft Operator IRAN AIR (aircraft) [NPWMD] Linked To: IRAN AIR.

33. EP-IBP; Aircraft Construction Number (also called L/N or S/N or F/N) 370; Aircraft Manufacture Date 06 Jan 1986; Aircraft Model A310-203; Aircraft Operator IRAN AIR (aircraft) [NPWMD] Linked To: IRAN AIR.

34. EP-IBQ; Aircraft Construction Number (also called L/N or S/N or F/N) 389; Aircraft Manufacture Date 20 Jan 1986; Aircraft Model A310-203; Aircraft Operator IRAN AIR (aircraft) [NPWMD] Linked To: IRAN AIR.

35. EP-IBS; Aircraft Construction Number (also called L/N or S/N or F/N) 80; Aircraft Manufacture Date 13 Feb 1980; Aircraft Model A300B2-203; Aircraft Operator IRAN AIR (aircraft) [NPWMD] Linked To: IRAN AIR.

36. EP-IBT; Aircraft Construction Number (also called L/N or S/N or F/N) 185; Aircraft Manufacture Date 09 Mar 1982; Aircraft Model A300B2-203; Aircraft Operator IRAN AIR (aircraft) [NPWMD] Linked To: IRAN AIR.

37. EP-IBV; Aircraft Construction Number (also called L/N or S/N or F/N) 187; Aircraft Manufacture Date 23 Mar 1982; Aircraft Model A300B2-203; Aircraft Operator IRAN AIR (aircraft) [NPWMD] Linked To: IRAN AIR.

38. EP-IBZ; Aircraft Construction Number (also called L/N or S/N or F/N) 226; Aircraft Manufacture Date 13 Dec 1982; Aircraft Operator IRAN AIR (aircraft) [NPWMD] Linked To: IRAN AIR.

39. EP-ICD; Aircraft Construction Number (also called L/N or S/N or F/N) 712; Aircraft Manufacture Date 15 Sep 1988; Aircraft Model B.747-21AC; Aircraft Operator IRAN AIR; Aircraft Manufacturer's Serial Number (MSN) 24134 (aircraft) [NPWMD] Linked To: IRAN AIR.

40. EP-ICE; Aircraft Construction Number (also called L/N or S/N or F/N) 139; Aircraft Manufacture Date 11 Mar 1981; Aircraft Model A300B4-203; Aircraft Operator IRAN AIR (aircraft) [NPWMD] Linked To: IRAN AIR.

41. EP-ICF; Aircraft Construction Number (also called L/N or S/N or F/N) 173; Aircraft Manufacture Date 14 Dec 1981; Aircraft Model A300B4-203; Aircraft Operator IRAN AIR (aircraft) [NPWMD] Linked To: IRAN AIR.

42. EP-IDA; Aircraft Manufacture Date 12 Jun 1990; Aircraft Model F.28-0100; Aircraft Operator IRAN AIR; Aircraft Manufacturer's Serial Number (MSN) 11292 (aircraft) [NPWMD].

43. EP-IDD; Aircraft Manufacture Date 31 Oct 1990; Aircraft Model F.28-0100; Aircraft Operator IRAN AIR; Aircraft Manufacturer's Serial Number (MSN) 11294 (aircraft) [NPWMD] Linked To: IRAN AIR.

44. EP-IDF; Aircraft Manufacture Date 07 Nov 1990; Aircraft Model F.28-0100; Aircraft Operator IRAN AIR; Aircraft Manufacturer's Serial Number (MSN) 11298 (aircraft) [NPWMD] Linked To: IRAN AIR.

45. EP-IDG; Aircraft Manufacture Date 30 Jan 1991; Aircraft Model F.28-0100; Aircraft Operator IRAN AIR; Aircraft Manufacturer's Serial Number (MSN) 11302 (aircraft) [NPWMD] Linked To: IRAN AIR.

46. EP-IEB; Aircraft Construction Number (also called L/N or S/N or F/N) 575; Aircraft Manufacture Date 26 Jan 1996; Aircraft Model A320-232; Aircraft Operator IRAN AIR (aircraft) [NPWMD] Linked To: IRAN AIR.

47. EP-IEC; Aircraft Construction Number (also called L/N or S/N or F/N) 857; Aircraft Manufacture Date 18 Jun 1998; Aircraft Model A320-232; Aircraft Operator IRAN AIR (aircraft) [NPWMD] Linked To: IRAN AIR.

48. EP-IED; Aircraft Construction Number (also called L/N or S/N or F/N) 345; Aircraft Manufacture Date 18 Jun 1992; Aircraft Model A320-212; Aircraft Operator IRAN AIR (aircraft) [NPWMD] Linked To: IRAN AIR.

49. EP-IEE; Aircraft Construction Number (also called L/N or S/N or F/N) 303; Aircraft Manufacture Date 14 Feb 1992; Aircraft Model A320-211; Aircraft Operator IRAN AIR (aircraft) [NPWMD] Linked To: IRAN AIR.

50. EP-IEF; Aircraft Construction Number (also called L/N or S/N or F/N) 312; Aircraft Manufacture Date 05 Mar 1992; Aircraft Model A320-211; Aircraft Operator IRAN AIR (aircraft) [NPWMD] Linked To: IRAN AIR.

51. EP-IEG; Aircraft Construction Number (also called L/N or S/N or F/N) 2054; Aircraft Manufacture Date 06 Jun 2003; Aircraft Model A320-211; Aircraft Operator IRAN AIR (aircraft) [NPWMD] Linked To: IRAN AIR.

52. EP-IRK; Aircraft Construction Number (also called L/N or S/N or F/N) 541; Aircraft Manufacture Date 04 Dec 1966; Aircraft Model B.707-321C; Aircraft Operator IRAN AIR; Aircraft Manufacturer's Serial Number (MSN) 19267 (aircraft) [NPWMD] Linked To: IRAN AIR.

53. EP-IRL; Aircraft Construction Number (also called L/N or S/N or F/N) 832; Aircraft Manufacture Date 15 Dec 1969; Aircraft Model B.707-386C; Aircraft Operator IRAN AIR; Aircraft Manufacturer's Serial Number (MSN) 20287 (aircraft) [NPWMD] Linked To: IRAN AIR.

54. EP-IRM; Aircraft Construction Number (also called L/N or S/N or F/N) 839; Aircraft Manufacture Date 04 Mar 1970; Aircraft Model B.707-386C; Aircraft Operator IRAN AIR; Aircraft Manufacturer's Serial Number (MSN) 20288 (aircraft) [NPWMD] Linked To: IRAN AIR.

55. EP-IRN; Aircraft Construction Number (also called L/N or S/N or F/N) 866; Aircraft Manufacture Date 18 Apr 1973; Aircraft Model B.707-386C; Aircraft Operator IRAN AIR; Aircraft Manufacturer's Serial Number (MSN) 20741 (aircraft) [NPWMD] Linked To: IRAN AIR.

56. EP-IRR; Aircraft Construction Number (also called L/N or S/N or F/N) 1052; Aircraft Manufacture Date 24 Jun 1974; Aircraft Model B.727-286; Aircraft Operator IRAN AIR; Aircraft Manufacturer's Serial Number (MSN) 20946 (aircraft) [NPWMD] Linked To: IRAN AIR.

57. EP-IRS; Aircraft Construction Number (also called L/N or S/N or F/N) 1070; Aircraft Manufacture Date 12 Sep 1974; Aircraft Model B.727-286; Aircraft Operator IRAN AIR; Aircraft Manufacturer's Serial Number (MSN) 20947 (aircraft) [NPWMD] Linked To: IRAN AIR.

58. EP-IRT; Aircraft Construction Number (also called L/N or S/N or F/N) 1114; Aircraft Manufacture Date 03 Mar 1975; Aircraft Model B.727-286; Aircraft Operator IRAN AIR; Aircraft Manufacturer's Serial Number (MSN) 21078 (aircraft) [NPWMD] Linked To: IRAN AIR.

59. EP-MDD; Aircraft Construction Number (also called L/N or S/N or F/N) 1959; Aircraft Manufacture Date Jul 1992; Aircraft Model MD-82; Aircraft Operator IRAN AIR TOURS; Aircraft Manufacturer's Serial Number (MSN) 49852 (aircraft) [NPWMD] Linked To: IRAN AIR.

60. EP-MDE; Aircraft Construction Number (also called L/N or S/N or F/N) 1724; Aircraft Manufacture Date Dec 1990; Aircraft Model MD-82; Aircraft Operator IRAN AIR TOURS; Aircraft Manufacturer's Serial Number (MSN) 49523 (aircraft) [NPWMD] Linked To: IRAN AIR.

61. UR-BXI; Aircraft Construction Number (also called L/N or S/N or F/N) 2065; Aircraft Manufacture Date Jun 1993; Aircraft Model MD-82; Aircraft Operator IRAN AIR TOURS; Aircraft Manufacturer's Serial Number (MSN) 53170 (aircraft) [NPWMD] Linked To: IRAN AIR.

62. UR-BXL; Aircraft Construction Number (also called L/N or S/N or F/N) 1548; Aircraft Manufacture Date Jun 1989; Aircraft Model MD-82; Aircraft Operator IRAN AIR TOURS; Aircraft Manufacturer's Serial Number (MSN) 49512 (aircraft) [NPWMD] Linked To: IRAN AIR.

63. UR-BXM; Aircraft Construction Number (also called L/N or S/N or F/N) 1381; Aircraft Manufacture Date Jan 1988; Aircraft Model MD-82; Aircraft Operator IRAN AIR TOURS; Aircraft Manufacturer's Serial Number (MSN) 49505 (aircraft) [NPWMD] Linked To: IRAN AIR.

64. UR-CGS; Aircraft Construction Number (also called L/N or S/N or F/N) 1240; Aircraft Model MD-82; Aircraft Operator IRAN AIR TOURS; Aircraft Manufacturer's Serial Number (MSN) 49425 (aircraft) [NPWMD] Linked To: IRAN AIR.

65. UR-CGT; Aircraft Construction Number (also called L/N or S/N or F/N) 1241; Aircraft Model MD-82; Aircraft Operator Iran Air Tours; Aircraft Manufacturer's Serial Number (MSN) 49428 (aircraft) [NPWMD] Linked To: IRAN AIR.

66. UR-CHW; Aircraft Construction Number (also called L/N or S/N or F/N) 1514; Aircraft Manufacture Date Mar 1989; Aircraft Model MD-82; Aircraft Operator IRAN AIR TOURS; Aircraft Manufacturer's Serial Number (MSN) 49510 (aircraft) [NPWMD] Linked To: IRAN AIR.

67. UR-CHX; Aircraft Construction Number (also called L/N or S/N or F/N) 2010; Aircraft Manufacture Date Jul 1992; Aircraft Model MD-82; Aircraft Operator IRAN AIR TOURS; Aircraft Manufacturer's Serial Number (MSN) 53162 (aircraft) [NPWMD] Linked To: IRAN AIR.

68. UR-CHY; Aircraft Construction Number (also called L/N or S/N or F/N) 2067; Aircraft Manufacture Date Jun 1993; Aircraft Model MD-82; Aircraft Operator IRAN AIR TOURS; Aircraft Manufacturer's Serial Number (MSN) 53171 (aircraft) [NPWMD] Linked To: IRAN AIR.

69. UR-CHZ; Aircraft Construction Number (also called L/N or S/N or F/N) 2063; Aircraft Manufacture Date May 1993; Aircraft Model MD-82; Aircraft Operator IRAN AIR TOURS; Aircraft Manufacturer's Serial Number (MSN) 53169 (aircraft) [NPWMD] Linked To: IRAN AIR.

70. UR-CJQ; Aircraft Construction Number (also called L/N or S/N or F/N) 1300; Aircraft Manufacture Date Jun 1987; Aircraft Model MD-82; Aircraft Operator IRAN AIR TOURS; Aircraft Manufacturer's Serial Number (MSN) 49502 (aircraft) [NPWMD] Linked To: IRAN AIR.

Dated: September 21, 2012.
Adam J. Szubin,
Director, Office of Foreign Assets Control.

[FR Doc. 2013-03177 Filed 2-11-13; 8:45 am]

BILLING CODE 4810-AL-P